ENVIRONMENTAL PROTECTION AGENCY

40 CFR Part 60

[EPA-HQ-OAR-2010-0960; FRL-9254-9]

Call for Information: Information Related to the Development of Emission-Estimating Methodologies for Animal Feeding Operations

AGENCY: Environmental Protection Agency (EPA).

ACTION: Call for information.

SUMMARY: The Environmental Protection Agency is publishing this Call for Information to solicit quality-assured emissions and process data that are relevant to developing emissions-estimating methodologies for animal feeding operations. EPA may use the data to supplement the emissions and process data collected under the National Air Emission Monitoring Study for animal feeding operations.

DATES: Information must be received on or before March 7, 2011.

ADDRESSES: Submit your information, identified by Docket ID Number EPA-HQ-OAR-2010-0960, by one of the following methods:

http://www.regulations.gov: Follow the on-line instructions for submitting data.

E-mail: Send your information via electronic mail to a-and-r-docket@epa.gov, Attention Docket ID Number EPA-HQ-OAR-2010-0960.

Facsimile: Fax your comments to (202) 566-1741, Attention Docket ID Number EPA-HQ-OAR-2010-0960.

Mail: Send your information to: EPA Docket Center (EPA/DC), Environmental Protection Agency, Mailcode 6102T, 1200 Pennsylvania Ave., NW., Washington, DC 20460, Attention Docket ID Number EPA-HQ-OAR-2010-0960. Please include two copies. We request that a separate copy also be sent to the contact person identified below (see FOR FURTHER INFORMATION CONTACT).

Hand Delivery: Deliver your information to: EPA Docket Center (EPA/DC), EPA West Building, Room 3334, 1301 Constitution Ave., NW., Washington, DC 20460, Attention Docket ID Number EPA-HQ-OAR-2010-0960. Such deliveries are only accepted during the normal hours of operation (8:30 a.m. to 4:30 p.m., Monday through Friday, excluding legal holidays) and special arrangements should be made for deliveries of boxed information.

Instructions: Direct your data and information to Docket ID Number EPA-HQ-OAR-2010-0960. EPA's policy is that all information received will be included in the public docket and may be made available on-line at http://www.regulations.gov, including any personal information provided, unless the submission includes information claimed to be CBI or other information whose disclosure is restricted by statute. Do not submit information that you consider to be CBI, or otherwise protected, through http://www.regulations.gov or e-mail. The http://www.regulations.gov Web site is an “anonymous access” system, which means EPA will not know your identity or contact information unless you provide it in the body of your information. If you send an e-mail directly to EPA without going through http://www.regulations.gov, your e-mail address will be automatically captured and included as part of the information that is placed in the public docket and made available on the Internet. If you submit the electronic data and information, EPA recommends that you include your name and other contact information in the body of your information and with any disk or CD-ROM you submit. If EPA cannot read your information due to technical difficulties and cannot contact you for clarification, EPA may not be able to consider your information. Electronic files should avoid the use of special characters or any form of encryption, and should be free of any defects or viruses.

Docket: EPA has established a docket for this action under Docket ID Number EPA-HQ-OAR-2010-0960. All documents in the docket are listed in the http://www.regulations.gov index. Although listed in the index, some information is not publicly available, e.g., CBI or other information whose disclosure is restricted by statute. Certain other material, such as copyrighted material, will be publicly available only in hard copy form. Publicly available docket materials are available either electronically in http://www.regulations.gov or in hard copy at EPA's Docket Center (EPA/DC), EPA West Building, Room 3334, 1301 Constitution Ave., NW., Washington, DC. The Public Reading Room is open from 8:30 a.m. to 4:30 p.m., Monday through Friday, excluding legal holidays. The telephone number for the Public Reading Room is (202) 566-1744, and the telephone number for EPA's Docket Center is (202) 566-1742.

FOR FURTHER INFORMATION CONTACT: Mr. Larry Elmore, Natural Resources and Commerce Group, Sector Policies and Programs Division, (E143-03), Environmental Protection Agency, Research Triangle Park, NC 27711; telephone number: (919) 541-5433; Facsimile number: (919) 541-3470; e-mail address: elmore.larry@epa.gov.

SUPPLEMENTARY INFORMATION: Acronyms and Abbreviations. The following terms and acronyms are used in this document:

AFOs Animal Feeding Operations

CAA Clean Air Act

CBI Confidential Business Information

CD ROM Compact Disc-Read Only Memory

CERCLA Comprehensive Environmental Response, Compensation and Liability Act

EEM Emissions-Estimating Methodology

EPCRA Emergency Planning and Community Right-To-Know Act

H2S Hydrogen Sulfide

lb/hr Pounds per Hour

NAEMS National Air Emission Monitoring Study

NH3 Ammonia

PM Particulate Matter

PM10 PM less than 10 micrometers in diameter

PM2.5 PM less than 2.5 micrometers in diameter

ppmv Parts per Million by Volume

TSP Total Suspended Particulate

VOC Volatile Organic Compounds

Organization of This Document. The following outline is provided to aid in locating information in this preamble.

Table of Contents

I. General Information

A. What is the purpose of this action?

B. What specific information is EPA seeking?

C. Submitting Confidential Business Information

I. General Information

A. What is the purpose of this action?

In 2005, EPA offered AFOs an opportunity to participate in a voluntary consent agreement (70 FR 4958) referred to as the Air Compliance Agreement. Under the Air Compliance Agreement, participating AFOs provided, among other things, the funding for the NAEMS, a two-year, nationwide industry-run emissions monitoring study of the broiler, egg-layer, swine, and dairy industries. The NAEMS began in the summer of 2007 and consisted of 25 monitoring sites located in 10 states. The study collected process and emissions data for PM10, PM2.5, TSP, H2S, NH3, and VOC from a representative sample of animal housing structures and manure storage and treatment units across the country. EPA plans to use these data to develop EEMs for AFOs, which will help AFOs determine and comply with their regulatory responsibilities under the CAA, CERCLA, and EPCRA. Additional information regarding the NAEMS can be found at: http://www.epa.gov/agriculture/airmonitoringstudy.html.

EPA committed in the January 2005 Federal Register notice that it will use data generated from the NAEMS and all other available, relevant data to develop EEMs. Through this Call for Information, EPA is requesting that interested parties submit data that are relevant to EPA's effort to develop EEMs.

B. What specific information is EPA seeking?

EPA is requesting emissions and process data for broiler, egg-layer, swine, dairy, beef, and turkey AFOs. While EPA is interested in all air pollutants emissions data from AFOs, we are specifically seeking PM10, PM2.5, TSP, H2S, NH3, and VOC emissions data and related process information for animal confinement and manure storage and treatment processes.

Consistent with the Air Compliance Agreement, EPA is focusing in the near term on developing EEMs for AFOs. However, we acknowledge the recommendation made by the National Academy of Sciences in its December 2002 final report (“Air Emissions from Animal Feeding Operations: Current Knowledge, Future Needs”) that EPA develop a process-based modeling approach that incorporates “mass balance” constraints to determine emissions from AFOs. Unfortunately, manure land application sites, which are a necessary component for developing a process-based approach, were not part of the NAEMS. Although our current focus is on developing the EEMs, we envision developing a process-based modeling approach at a later date. Thus, EPA is also requesting process and emissions data for land application of manure.

We will review all of the information available to us. To ensure compatibility with the NAEMS data, the emissions and related process data provided to EPA should be accompanied, to the extent possible, by documentation that contains detailed descriptions of the following parameters, as applicable.

General information:

• Description of AFO process measured (e.g., animal confinement structure; manure storage and treatment unit; land application site).

• Location of AFO process measured (e.g., physical address, latitude/longitude coordinates of facility).

• Beginning and ending dates of the monitoring period.

Monitoring data:

• Quality assurance and quality control plan.

• Site monitoring plan.

• Test methods, instrumentation, and standard operating procedures used to collect emissions and process data measurements.

• Results of audits conducted on instruments and procedures.

• Field notes and associated documentation collected during the study.

• Emissions data (unanalyzed or analyzed) and associated process data.

• Meteorological data, including average ambient temperature, relative humidity, pressure, wind speed, wind direction, and insolation (solar radiation), for each day that the study was conducted.

• Production data (e.g., number of eggs produced per day or quantity of milk produced per day).

• Calculations and assumptions used to convert concentration data (e.g., ppmv) into mass emissions (e.g., lb/hr).

Animal confinement structures:

• Dimensions of structures monitored.

• Designed and permitted animal capacity.

• Type, age, number, and weight of animals contained in the confinement structure over the duration of the monitoring period.

• Manure management system (e.g., pull-plug pit, scrape).

• Manure removal activities over the duration of the monitoring period.

• Ventilation method (i.e., natural or mechanical).

• Calculations and assumptions used to estimate the ventilation rate of the monitored confinement structure.

• Calibration procedures for instruments (e.g., flow meters, fan relays) used to collect data for calculating ventilation rate of the monitored confinement structure.

• Nitrogen content of process inputs and outputs (e.g., feed, water, bedding, eggs, milk).

• Nitrogen content of manure excreted.

• Description of any control device or work practice used in the monitored structure to reduce emissions.

Manure storage and treatment processes:

• Type, age, number, and weight of animals contributing manure to the storage and treatment process over the monitoring period.

• Dimensions of storage/treatment unit monitored (e.g., storage pile, tank, lagoon).

• Depth of settled solids in storage/treatment unit.

• Temperature, pH, and reduction/oxidation potential of manure contained in the storage/treatment unit.

• Moisture, total solids, volatile solids, total Kjeldahl nitrogen, and ammoniacal nitrogen content and pH of manure entering storage and treatment process over the monitoring period.

Manure land application sites:

• Type, age, number, and weight of animals contributing manure to the land application site.

• Method used to apply manure (e.g., direct injection, broadcast spreading and frequency of application.

• Area (e.g., acres, square feet) used for manure application over the monitoring period.

• Quantity and moisture content of manure applied.

With regard to the format of the information, we request that emissions, process, and production data be submitted to EPA in Microsoft® Excel® spreadsheet or Access® database format. In cases where the emissions, process, and production data correspond to time increments shorter than one hour, please provide sufficient information and supporting documentation with the data to allow EPA to develop emission estimates on a per-hour and per-day basis. For all formats, please clearly label the units of measure of emissions, process, and production data submitted.

C. Submitting Confidential Business Information

Do not submit information you consider to be CBI electronically through http://www.regulations.gov or e-mail. Send or deliver information identified as CBI to only the following address: Mr. Larry Elmore, c/o Office of Air Quality Planning and Standards (OAQPS) Document Control Officer (Room C404-02), U.S. EPA, Research Triangle Park, NC 27711, Attention Docket ID Number EPA-HQ-OAR-2010-0960. Clearly mark the part or all of the information that you claim to be CBI. For CBI information in a disk or CD-ROM that you mail to EPA, mark the outside of the disk or CD-ROM as CBI and then identify electronically within the disk or CD-ROM the specific information that is claimed as CBI. In addition to one complete version of the information claimed as CBI, a copy of the information that does not contain the information claimed as CBI must be submitted for inclusion in the public docket. Information marked as CBI will not be disclosed except in accordance with procedures set forth in 40 CFR part 2.

If you have any questions about CBI or the procedures for claiming CBI, please consult the person identified in the FOR FURTHER INFORMATION CONTACT section.

Dated: December 14, 2010.
Gina McCarthy,
Assistant Administrator, Office of Air and Radiation.

[FR Doc. 2011-1011 Filed 1-18-11; 8:45 am]

BILLING CODE 6560-50-P